ENVIRONMENTAL PROTECTION AGENCY

[FRL-7545-1]

Public Water System Supervision Program Revision for the State of South Dakota

AGENCY: Environmental Protection Agency (EPA).

ACTION: Notice.

SUMMARY: In accordance with the provisions of section 1413 of the Safe Drinking Water Act (SDWA), 42 U.S.C. 300g-2, and 40 CFR 142.13, public notice is hereby given that the State of South Dakota has revised its Public Water System Supervision (PWSS) Primacy Program by developing regulations for the Lead and Copper Rule Minor Revisions (LCRMR), the Public Notification Rule (PNR), the Disinfectants/ Disinfection Byproducts Rule (D/DBPR), and the Interim Enhanced Surface Water Treatment Rule (IESWTR) that correspond to 40 CFR parts 141 and 142. The EPA has completed its review of South Dakota's primacy revisions in accordance with the SDWA, and EPA's implementing regulations at 40 CFR parts 141 and 142, and proposes to approve South Dakota's primacy revisions for the LCRMR, PNR, D/DBPR and conditionally approves the IESWTR.

Today's approval action does not extend to public water systems in Indian country, as that term is defined in 18 U.S.C. 1151. Please see SUPPLEMENTARY INFORMATION, Item B.

DATES: Any member of the public is invited to submit written comments and/or request a public hearing on this determination by September 15, 2003. Please see SUPPLEMENTARY INFORMATION, Item C, for information on submitting comments and requesting a hearing. Should no timely and appropriate request for a hearing be received, and the Regional Administrator (RA) does not elect to hold a hearing on his own motion, this determination shall become effective September 15, 2003. If a hearing is requested or granted, then this determination shall not become effective until such time following the hearing as the RA issues an order affirming or rescinding this action.

ADDRESSES: Written comments and a request for a public hearing should be addressed to: Robert E. Roberts, Regional Administrator, c/o Bruce Suchomel (8P-W-MS), U.S. Environmental Protection Agency, Region 8, 999 18th St., Suite 300, Denver, CO 80202-2466.

Reviewing Documents: All documents relating to this determination are available for inspection at the following locations: (1) U.S. EPA, Region 8, Municipal Systems Unit, 999 18th St. (4th Floor), Denver, CO 80202-2466; (2) South Dakota Department of Environment and Natural Resources, Drinking Water Program, 523 E. Capitol Ave., Pierre, SD 57501-3181.

FOR FURTHER INFORMATION CONTACT: Bruce Suchomel, Municipal Systems Unit, U.S. EPA, Region 8 (8P-W-MS), 999 18th St., Suite 300, Denver, CO 80202-2466; telephone 303-312-6001.

SUPPLEMENTARY INFORMATION: Effective January 9, 1984, EPA approved South Dakota's application for assuming primary enforcement authority for the PWSS program, pursuant to section 1413 of SDWA, 42 U.S.C. 300g-2, and 40 CFR part 142 (see 48 FR 55173). The South Dakota Department of Environment and Natural Resources (DENR) administers South Dakota's PWSS program.

A. Why Are Revisions to State Programs Necessary?

States with primary PWSS enforcement authority must comply with the requirements of 40 CFR part 142 for maintaining primacy. They must adopt regulations that are at least as stringent as the National Primary Drinking Water Regulations (NPDWRs) at 40 CFR parts 141 and 142. As new NPDWRs become final, states must adopt all new and revised NPDWRs in order to retain primacy. (40 CFR 142.12(a)).

B. How Does Today's Action Affect Indian Country (18 U.S.C. 1151) in South Dakota?

South Dakota is not authorized to carry out its PWSS program in Indian Country, as defined in 18 U.S.C. 1151. This includes:

1. Lands within the exterior boundaries of the following Indian reservations located within or abutting the State of South Dakota.

a. Cheyenne River Indian Reservation;

b. Crow Creek Indian Reservation;

c. Flandreau Indian Reservation;

d. Lower Brule Indian Reservation;

e. Pine Ridge Indian Reservation;

f. Rosebud Indian Reservation;

g. Standing Rock Indian Reservation; and

h. Yankton Indian Reservation.

2. Any land held in trust by the United States for an Indian tribe, and

3. Any other areas which are “Indian country” within the meaning of 18 U.S.C. 1151.

C. Requesting a Hearing and Submitting Written Comments.

Any request for a public hearing shall include the following: (1) The name, address, and telephone number of the individual, organization, or other entity requesting ; (2) a brief statement of the requesting person's interest in the RA's determination and of information that the requesting person intends to submit at such hearing; and (3) the signature of the individual making the request, or, if the request is made on behalf of an organization or other entity, the signature of the responsible official of the organization or other entity.

Notice of any hearing shall be given not less than fifteen (15) days prior to the time scheduled for the hearing. Such notice will be made by the RA in the Federal Register and in newspapers of general circulation in the State of South Dakota. A notice will also be sent to the person(s) requesting the hearing as well as to the State of South Dakota. The hearing notice will include a statement of purpose, information regarding time and location, and the address and telephone number where interested persons may obtain further information. The RA will issue the final determination upon review of the hearing record.

Frivolous or insubstantial requests for a hearing may be denied by the RA. However, if a substantial request is made within thirty (30) days after this notice, a public hearing will be held.

Please bring this notice to the attention of any persons known by you to have an interest in this determination.

Dated: August 1, 2003.
Robert E. Roberts,
Regional Administrator, Region 8.

[FR Doc. 03-20892 Filed 8-14-03; 8:45 am]

BILLING CODE 6560-50-P